DEPARTMENT OF HEALTH AND HUMAN SERVICES

Centers for Disease Control and Prevention

[CDC-2017-0015; Docket Number NIOSH 295]

Health Risks to Workers Associated With Occupational Exposures to Peracetic Acid; Extension of Comment Period

AGENCY: National Institute for Occupational Safety and Health (NIOSH) of the Centers for Disease Control and Prevention (CDC), Department of Health and Human Services (HHS).

ACTION: Notice and extension of comment period.

SUMMARY: On March 7, 2017 the National Institute for Occupational Safety and Health (NIOSH) of the Centers for Disease Control and Prevention (CDC), published a notice in the Federal Register announcing a request for information to evaluate the scientific and technical data on occupational exposure to peracetic acid (CAS #79-21-0, also known as peroxyacetic acid and PAA). Written comments were to be received by June 5, 2017. In response to a request from an interested party, NIOSH is extending the comment period until October 1, 2017.

DATES: NIOSH is extending the comment period on the request for information published March 7, 2017 [82 FR 12819]. Electronic or written comments must be received by October 1, 2017.

FOR FURTHER INFORMATION CONTACT: G. Scott Dotson, NIOSH, Education and Information Division, Robert A. Taft Laboratories, 1090 Tusculum Avenue, Cincinnati, Ohio 45226, telephone (513) 533-8540 (not a toll free number).

ADDRESSES: You may submit comments, identified by CDC-2017-0015 and Docket Number NIOSH 295, by either of the following two methods:

• Federal eRulemaking Portal: http://www.regulations.gov. Follow the instructions for submitting comments.

• Mail: National Institute for Occupational Safety and Health, NIOSH Docket Office, 1090 Tusculum Avenue, MS C-34, Cincinnati, Ohio 45226-1998.

John Howard,
Director, National Institute for Occupational Safety and Health, Centers for Disease Control and Prevention.

[FR Doc. 2017-11288 Filed 5-31-17; 8:45 am]

BILLING CODE 4163-19-P